DEPARTMENT OF HEALTH AND HUMAN SERVICES

National Institutes of Health

National Cancer Institute; Amended Notice of Meeting

Notice is hereby given of a change in the meeting of the National Cancer Advisory Board, September 08, 2014, 06:00 p.m. to September 09, 2014, 05:30 p.m., National Institutes of Health, Building 31, 31 Center Drive, Bethesda, MD, 20892 which was published in the Federal Register on August 22, 2014, 79FR49787.

The meeting notice is being amended to cancel the Ad hoc Subcommittee on Global Cancer Research on September 8, 2014.

Dated: August 25, 2014.
Melanie J. Gray,
Program Analyst, Office of Federal Advisory Committee Policy.

[FR Doc. 2014-20551 Filed 8-28-14; 8:45 am]

BILLING CODE 4140-01-P